DEPARTMENT OF TRANSPORTATION

Federal Highway Administration

Environmental Impact Statement: Seattle, WA

AGENCY: Federal Highway Administration (FHWA), DOT.

ACTION: Notice of intent to prepare an Environmental Impact Statement (EIS) for replacing the Magnolia Bridge (Seattle, Washington).

SUMMARY: The FHWA is issuing this notice to advise the public, Tribes, and agencies that an Environmental Impact Statement (EIS) will be prepared for a proposed transportation improvement project in Seattle, King County, Washington.

FOR FURTHER INFORMATION CONTACT: Elizabeth Healy, Area Engineer, Federal Highway Administration, 711 S. Capitol Way, Suite 501, Olympia, WA 98501, Telephone (360) 753-9480 and Kirk T. Jones, Seattle Department of Transportation Project Manager, 700 Fifth Ave., Seattle 98104, (206) 615-0862 or e-mail kirkt.jones@seattle.gov. The Seattle Department of Transportation (SDOT) TDD number is 206-615-0476. Written comments should be sent to Kirk T. Jones, Seattle Department of Transportation, Key Tower, Suite 3900, 700-5th Avenue, Seattle, Washington 98104-5043.

SUPPLEMENTARY INFORMATION: The FHWA, the Washington State Department of Transportation (WSDOT), and the City of Seattle will prepare an Environmental Impact Statement (EIS) in accordance with the National Environmental Policy Act (NEPA) for a transportation improvement project to replace the Magnolia Bridge which spans from the intersection of 15th Avenue West and West Garfield Street to the intersection of West Galer Street and Dartmouth Avenue West in Seattle, Washington. The EIS will be prepared to satisfy both NEPA and the Washington State Environmental Policy Act (SEPA).

The project proposes to replace the Magnolia Bridge, which has been damaged in recent years by landslides and an earthquake. The City of Seattle has determined that performing ongoing retrofit and maintenance work on the existing bridge would approach the cost of building a new bridge, and is therefore proposing to build a new facility. The EIS will explore several alternatives, including a No Action alternative, to identify a preferred alternative that provides vehicular linkage to Magnolia from the greater Seattle area; remedies ongoing seismic safety, landslide, and maintenance concerns; and minimizes impacts to the human and natural environment.

The existing Magnolia Bridge, an approximately 3,000-foot structure, connects the 15th Avenue West/Elliott Avenue West corridor to Magnolia along the extended alignment of West Garfield Street, serving as one of three transportation routes to Magnolia that cross the Burlington Northern-Santa Fe (BNSF) railroad tracks. Access to the bridge is provided via the West Galer Street Flyover on the east, and from West Galer Street on the west.

Currently four alternatives are being evaluated for inclusion in the EIS, including three different alignment alternatives and a No-Action alternative. The No-Action Alternative will provide the basis for comparison of the build alternatives. The No-Action Alternative would preserve the existing Magnolia Bridge and include necessary maintenance and retrofit projects to meet seismic standards. Alternative A replaces the Magnolia Bridge with a similar facility just south of the existing bridge, using the same connection points and creating a structure approximately 3,000 feet in length. Alternative D maintains the same endpoints as currently exist for the Magnolia Bridge, but arcs the alignment to the north, creating a longer bridge structure than the existing bridge. Alternative H provides two access routes between 15th Avenue West and Magnolia, one similar to that described for Alternative D, the other a northern bridge connecting Wheeler Street and Armory Way to Thorndyke Avenue at 23rd Avenue West. Each alternative would include some method of connection (e.g., ramps or surface-level intersections) to Port of Seattle property currently spanned by the bridge.

The NEPA scoping process is designed to identify important issues to be studied in the EIS. FHWA and the City of Seattle invite all interested parties to submit comments on the scope of the proposed project. Public and agency scoping will continue until the Draft EIS is completed. Comments can be submitted by mail, e-mail, via the project Web site, or in person at public and agency scoping meetings. A packet on the proposed project, project alternatives, and the scoping process may be obtained from Seattle Department of Transportation. The information may also be obtained through a public Web site for the project, www.seattle.gov/transportation/magbridgereplace.htm.

Letters soliciting comments on the scope of the EIS and describing the purpose, need, and potential alternatives will be sent to appropriate Federal, State, and local agencies, Tribes, and to organizations and citizens who have previously expressed or are known to have interest in this proposal. A Public Open House/Scoping Meeting will be held on May 22, 2003, from 5:30 pm to 8:30 pm PDT, at the Blaine K-8 School Cafeteria, 2550 34th Avenue West, Seattle, Washington. An Agency Scoping Meeting for Federal, State, and local agencies and Tribes will be held from 10:30 am to 12:30 pm PDT at the Alaska Building, Elliott Bay Room, 2nd Avenue and Cherry Street, Seattle, Washington. In addition, a public and agency hearing will be held following circulation of the Draft EIS. All meeting locations are accessible to persons with disabilities. Any individual with a disability who requires special assistance at upcoming meetings, such as a sign language interpreter, should contact Marybeth Turner at (206) 684-8548 or e-mail marybeth.turner@seattle.gov at least 48-hours in advance of the meeting in order for SDOT to make necessary arrangements.

(Catalog of Federal Domestic Assistance Program Number 20.205, Highway Research, Planning and Construction. The regulations implementing Executive Order 12372 regarding intergovernmental consultation of Federal programs and activities apply to this program.)

Issued on: April 18, 2003.
Elizabeth Healy,
Area Engineer, Olympia, Washington.

[FR Doc. 03-10244 Filed 4-24-03; 8:45 am]

BILLING CODE 4910-22-M